DEPARTMENT OF LABOR

Employment and Training Administration

[TA-W-58,280]

TRW Jackson, MI; Notice of Termination of Investigation

Pursuant to section 221 of the Trade Act of 1974, as amended, an investigation was initiated on November 4, 2005, in response to a worker petition filed by the United Steelworkers of America, Local 2-670, on behalf of workers at TRW, Jackson, Michigan.

The petitioner has requested that the petition be withdrawn. Consequently, the investigation has been terminated.

Signed at Washington, DC, this 16th day of November 2005.
Elliott S. Kushner,
Certifying Officer, Division of Trade Adjustment Assistance.

[FR Doc. E5-6878 Filed 12-5-05; 8:45 am]

BILLING CODE 4510-30-P